DEPARTMENT OF HOMELAND SECURITY

Coast Guard

33 CFR Part 165

[Docket No. USCG-2023-0172]

Safety Zone; Fireworks Display, Chesapeake Bay, Virginia Beach, VA

AGENCY: Coast Guard, DHS.

ACTION: Notification of enforcement of regulation.

SUMMARY: The Coast Guard will enforce a safety zone regulation for Ocean Park Civic League on July 1st, 2023, to provide for the safety of life on navigable waterways during this event. Our regulation for marine events within the Fifth Coast Guard District identifies the regulated area for this event in Virginia Beach, VA. During the enforcement period, entry of vessels or persons into this zone is prohibited unless specifically authorized by the Captain of the Port Virginia.

DATES: The regulations in 33 CFR 165.506 will be enforced for the location identified as Item 8 in table 3 to paragraph (h)(3) from 9 p.m. until 10 p.m. on July 1, 2023.

FOR FURTHER INFORMATION CONTACT: If you have questions about this notification of enforcement, call or email LCDR Ashley Holm, Chief, Waterways Management Division, Sector Virginia, U.S. Coast Guard; telephone 757-668-5580 email Ashley.E.Holm@uscg.mil.

SUPPLEMENTARY INFORMATION: As noted in paragraph (c) of § 165.506, the enforcement period(s) for each safety zone in paragraph (h) of this section are subject to change, and the enforcement period announced here differs from the enforcement period noted in Table 3 to paragraph (h). The Coast Guard will enforce the safety zone in 33 CFR 165.506 for Ocean Park Civic League regulated area from 9 p.m. to 10 p.m. on July 1st, 2023, which is the first Saturday in July. This action is being taken to provide for the safety of life on navigable waterways during this 1-hour event. Our regulation for marine events within the Fifth Coast Guard District, § 165.506, specifies the location of the regulated area for the Ocean Park Civic League which encompasses portions of the Chesapeake Bay. During the enforcement periods, entry of vessels or persons into this zone is prohibited unless specifically authorized by the Captain of the Port Virginia.

In addition to this notification of enforcement in the Federal Register, the Coast Guard plans to provide notification of this enforcement period via the Local Notice to Mariners and marine information broadcasts.

Dated: March 1, 2023.
Jennifer A. Stockwell,
Captain, U.S. Coast Guard, Captain of the Port Virginia.

[FR Doc. 2023-04768 Filed 3-7-23; 8:45 am]

BILLING CODE 9110-04-P